FEDERAL COMMUNICATIONS COMMISSION

47 CFR Part 54

[WC Docket No. 13-184; Report No. 3143; FRS 16540]

Petitions for Reconsideration of Action in Rulemaking Proceeding

AGENCY: Federal Communications Commission.

ACTION: Petition for Reconsideration.

SUMMARY: Petitions for Reconsideration (Petitions) have been filed in the Commission's rulemaking proceeding filed by Debra M. Kriete, on behalf of State E-Rate Coordinators' Alliance and Fred Brakeman, on behalf of Infinity Communications & Consulting, Inc.

DATES: Oppositions to the Petitions must be filed on or before April 8, 2020. Replies to an opposition must be filed on or before April 20, 2020.

ADDRESSES: Federal Communications Commission, 445 12th Street SW, Washington, DC 20554.

FOR FURTHER INFORMATION CONTACT: Joseph Schlingbaum, Wireline Competition Bureau, Telecommunications Access Policy Division, (202) 418-0829.

SUPPLEMENTARY INFORMATION: This is a summary of the Commission's document, Report No. 3143, released February 28, 2020. The full text of the Petitions are available for viewing and copying at the FCC Reference Information Center, 445 12th Street SW, Room CY-A257, Washington, DC 20554. Petitions also may be accessed online via the Commission's Electronic Comment Filing System at: http://apps.fcc.gov/ecfs/. The Commission will not send a Congressional Review Act (CRA) submission to Congress or the Government Accountability Office pursuant to the CRA, 5.U.S.C. because no rules are being adopted by the Commission.

Subject: Modernizing the E-Rate Program for Schools and Libraries, FCC 19-117 published at 84 FR 70026, December 20, 2019, in WT Docket No. 13-184. This document is being published pursuant to 47 CFR 1.429(e). See also 47 CFR 1.4(b)(1) and 1.429(f), (g).

Number of Petitions Filed: 2.

Federal Communications Commission.
Cecilia Sigmund,
Federal Register Liaison Officer, Secretary, Office of the Secretary.

[FR Doc. 2020-06114 Filed 3-23-20; 8:45 am]

BILLING CODE 6712-01-P